DEPARTMENT OF TRANSPORTATION

Federal Aviation Administration

14 CFR Part 39

[Docket No. FAA-2010-0699; Directorate Identifier 2009-NM-236-AD; Amendment 39-16510; AD 2010-23-21]

RIN 2120-AA64

Airworthiness Directives; Viking Air Limited (Type Certificate Previously Held by Bombardier, Inc.) Model DHC-7 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Viking Air Limited has completed a system safety review of the aircraft fuel system against fuel tank safety standards introduced in Chapter 525 of the Airworthiness Manual through Notice of Proposed Amendment (NPA) 2002-043. The identified non-compliances were then assessed using Transport Canada Policy Letter No. 525-001, to determine if mandatory corrective action is required.

The assessment showed that supplemental maintenance tasks would be required to prevent potential ignition sources within the fuel system, which could result in a fuel tank explosion. * * *

We are issuing this AD to require actions to correct the unsafe condition on these products.

DATES: This AD becomes effective December 22, 2010.

The Director of the Federal Register approved the incorporation by reference of certain publications listed in this AD as of December 22, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Richard Fiesel, Aerospace Engineer, Airframe and Mechanical Systems Branch, ANE-171, FAA, New York Aircraft Certification Office, 1600 Stewart Avenue, Suite 410, Westbury, New York 11590; telephone (516) 228-7304; fax (516) 794-5531.

SUPPLEMENTARY INFORMATION:

Discussion

We issued a notice of proposed rulemaking (NPRM) to amend 14 CFR part 39 to include an AD that would apply to the specified products. That NPRM was published in the Federal Register on July 23, 2010, (75 FR 43092). That NPRM proposed to correct an unsafe condition for the specified products. The MCAI states:

Viking Air Limited has completed a system safety review of the aircraft fuel system against fuel tank safety standards introduced in Chapter 525 of the Airworthiness Manual through Notice of Proposed Amendment (NPA) 2002-043. The identified non-compliances were then assessed using Transport Canada Policy Letter No. 525-001, to determine if mandatory corrective action is required.

The assessment showed that supplemental maintenance tasks would be required to prevent potential ignition sources within the fuel system, which could result in a fuel tank explosion. Viking Air Limited has revised Chapter 5 of the DHC-7 Maintenance Manual, PSM 1-7-2, to introduce the required maintenance tasks.

The corrective action is revising the Airworthiness Limitations Section of the Instructions for Continued Airworthiness to incorporate new limitations for fuel tank systems. You may obtain further information by examining the MCAI in the AD docket.

Comments

We gave the public the opportunity to participate in developing this AD. We received no comments on the NPRM or on the determination of the cost to the public.

Clarification of Table Reference

Table 1—Temporary Revisions of the NPRM has a typographical error. “FLS-06” is corrected in Table 1 of this AD to “FSL-06.”

Clarification of Viking DHC-7 Dash 7 Maintenance Manual Section Number

Paragraph (g) of the NPRM has a typographical error. “Section 5-10-30” is corrected in paragraph (g) of this AD to “Section 5-10-13.”

Conclusion

We reviewed the available data and determined that air safety and the public interest require adopting the AD with the correction described previously. We determined that this correction will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 11 products of U.S. registry. We also estimate that it will take about 1 work-hour per product to comply with the basic requirements of this AD. The average labor rate is $85 per work-hour. Based on these figures, we estimate the cost of this AD to the U.S. operators to be $935, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-23-21 Viking Air Limited (Type Certificate Previously Held by Bombardier, Inc.): Amendment 39-16510. Docket No. FAA-2010-0699; Directorate Identifier 2009-NM-236-AD.

Effective Date

(a) This airworthiness directive (AD) becomes effective December 22, 2010.

Affected ADs

(b) None.

Applicability

(c) This AD applies to Viking Air Limited (Type Certificate previously held by Bombardier, Inc.) Model DHC-7-1, DHC-7-100, DHC-7-101, DHC-7-102, and DHC-7-103 airplanes; certificated in any category.

Subject

(d) Air Transport Association (ATA) of America Code 28: Fuel.

Reason

(e) The mandatory continuing airworthiness information (MCAI) states:

Viking Air Limited has completed a system safety review of the aircraft fuel system against fuel tank safety standards introduced in Chapter 525 of the Airworthiness Manual through Notice of Proposed Amendment (NPA) 2002-043. The identified non-compliances were then assessed using Transport Canada Policy Letter No. 525-001, to determine if mandatory corrective action is required.

The assessment showed that supplemental maintenance tasks would be required to prevent potential ignition sources within the fuel system, which could result in a fuel tank explosion. * * *

The corrective action is revising the Airworthiness Limitations Section of the Instructions for Continued Airworthiness to incorporate new limitations for fuel tank systems.

Compliance

(f) You are responsible for having the actions required by this AD performed within the compliance times specified, unless the actions have already been done.

Actions

(g) Within 60 days after the effective date of this AD, incorporate all the fuel system limitation (FSL) tasks as specified in the temporary revisions (TR) listed in Chapter 5 of the Viking Dash 7 Series 1/100 Aircraft Maintenance Manual (AMM), PSM 1-7-2; and incorporate Section 5-10-13, as specified in Viking Air Limited TR 5-106, dated December 15, 2008, to Chapter 5 of the Viking Dash 7 Series 100 Maintenance Manual PSM 1-7-2.

Note 1: This may be done by inserting copies of the TRs identified in paragraph (g) of this AD in the AMM. When these TRs have been included in general revisions of the AMM, the general revisions may be inserted in the AMM, provided the relevant information in the general revision is identical to that in the TRs identified in paragraph (g) of this AD.

(h) At the applicable time specified in paragraphs (h)(1), (h)(2), (h)(3), and (h)(4) of this AD, do the initial inspections in accordance with the applicable TR identified in Table 1 of this AD.

(1) For Tasks FSL-01, FSL-02, FSL-03, FSL-04 and FSL-05: Inspect at the later of the times specified in paragraphs (h)(1)(i) and (h)(1)(ii) of this AD.

(i) Prior to the accumulation of 18,000 total flight hours.

(ii) Within 6,000 flight hours or within 36 months after the effective date of this AD, whichever occurs first.

(2) For Task FSL-06: Inspect at the later of the times specified in paragraphs (h)(2)(i) and (h)(2)(ii) of this AD.

(i) Prior to the accumulation of 40,000 total flight hours.

(ii) Within 6,000 flight hours or within 36 months after the effective date of this AD, whichever occurs first.

(3) For Task FSL-07: Within 1 month after the effective date of this AD.

(4) For Task FSL-08: Inspect at the later of the times specified in paragraphs (h)(4)(i) and (h)(4)(ii) of this AD.

(i) Prior to the accumulation of 4,000 total flight hours.

(ii) Within 2,000 flight hours or within 12 months after the effective date of this AD, whichever occurs first.

Table 1—Temporary Revisions
Task— | Viking TR— | Date—
FSL-01 | 5-107 | December 15, 2008.
FSL-02 | 5-108 | December 15, 2008.
FSL-06 | 5-109 | December 15, 2008.
FSL-07 | 5-110 | December 15, 2008.
FSL-08 | 5-111 | December 15, 2008.
FSL-03 | 5-112 | December 15, 2008.
FSL-04 and FSL-05 | 5-113 | December 15, 2008.

FAA AD Differences

Note 2: This AD differs from the MCAI and/or service information as follows: No differences.

Other FAA AD Provisions

(i) The following provisions also apply to this AD:

(1) Alternative Methods of Compliance (AMOCs): The Manager, New York Aircraft Certification Office (ACO), ANE-170, FAA, has the authority to approve AMOCs for this AD, if requested using the procedures found in 14 CFR 39.19. Send information to ATTN: Program Manager, Continuing Operational Safety, FAA, New York ACO, 1600 Stewart Avenue, Suite 410, Westbury, New York 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(j) Refer to MCAI Canadian Airworthiness Directive CF-2009-15, dated April 17, 2009, and the TRs identified in Table 2 of this AD, for related information.

Table 2—Related Service Information
Viking TR— | Dated— | Chapter 5 of the—
5-106 | December 15, 2008 | Viking Dash 7 Series 1/100 AMM, PSM 1-7-2.
5-107 | December 15, 2008 | Viking Dash 7 Series 100 Maintenance Manual, PSM 1-7-2.
5-108 | December 15, 2008 | Viking Dash 7 Series 100 Maintenance Manual, PSM 1-7-2.
5-109 | December 15, 2008 | Viking Dash 7 Series 100 Maintenance Manual, PSM 1-7-2.
5-110 | December 15, 2008 | Viking Dash 7 Series 100 Maintenance Manual, PSM 1-7-2.
5-111 | December 15, 2008 | Viking Dash 7 Series 100 Maintenance Manual, PSM 1-7-2.
5-112 | December 15, 2008 | Viking Dash 7 Series 100 Maintenance Manual, PSM 1-7-2.
5-113 | December 15, 2008 | Viking Dash 7 Series 100 Maintenance Manual, PSM 1-7-2.

Material Incorporated by Reference

(k) You must use the service information contained in Table 3 of this AD to do the actions required by this AD, unless the AD specifies otherwise.

Table 3—Material Incorporated by Reference
Viking TR— | Dated— | Chapter 5 of the—
5-106 | December 15, 2008 | Viking Dash 7 Series 1/100 Airplane Maintenance Manual, PSM 1-7-2.
5-107 | December 15, 2008 | Viking Dash 7 Series 100 Maintenance Manual, PSM 1-7-2.
5-108 | December 15, 2008 | Viking Dash 7 Series 100 Maintenance Manual, PSM 1-7-2.
5-109 | December 15, 2008 | Viking Dash 7 Series 100 Maintenance Manual, PSM 1-7-2.
5-110 | December 15, 2008 | Viking Dash 7 Series 100 Maintenance Manual, PSM 1-7-2.
5-111 | December 15, 2008 | Viking Dash 7 Series 100 Maintenance Manual, PSM 1-7-2.
5-112 | December 15, 2008 | Viking Dash 7 Series 100 Maintenance Manual, PSM 1-7-2.
5-113 | December 15, 2008 | Viking Dash 7 Series 100 Maintenance Manual, PSM 1-7-2.

(1) The Director of the Federal Register approved the incorporation by reference of this service information under 5 U.S.C. 552(a) and 1 CFR part 51.

(2) For service information identified in this AD, contact Viking Air Limited, 9574 Hampden Road, Sidney, British Columbia, V8L 8V5, Canada; telephone 250-656-7227; fax 250-656-0673; e-mail technical.publications@vikingair.com; Internet http://www.vikingair.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on November 2, 2010.
Dionne Palermo,
Acting Manager, Transport Airplane Directorate, Aircraft Certification Service.

[FR Doc. 2010-28273 Filed 11-16-10; 8:45 am]

BILLING CODE 4910-13-P